DEPARTMENT OF LABOR

Request for Feedback under Executive Order 14008

AGENCY: Office of the Assistant Secretary for Policy, Labor.

ACTION: Notice.

SUMMARY: The United States Department of Labor (the Department) is updating its Environmental Justice Strategy and solicitating feedback on how the Department could improve services and better serve environmental justice communities.

DATES: Interested persons are invited to provide oral feedback on December 9, 2022, 11 a.m.-12 p.m. EST and/or provide written feedback by 5 p.m. EST on December 9, 2022, at EnvironmentalJustice@DOL.GOV.

Instructions: Written submissions must include your name and reference DOL Environmental Justice Strategy feedback. All feedback, including any personal information you provide, may be made public. Therefore, the Department cautions participants about providing information they do not want made available to the public or submitting materials that contain personal information (either about themselves or others), such as Social Security Numbers and birthdates.

Registration: Interested persons should register for the meeting at https://www.zoomgov.com/meeting/register/vJIsceusqDopEk8g0U9P-l-ecQ-mDv4U83o.

ADDRESSES: If you require a reasonable accommodation to attend this listening session, please email EnvironmentalJustice@DOL.GOV at least five (5) business days prior to the event.

FOR FURTHER INFORMATION CONTACT: Lisa Stuart, 202-693-5959, EnvironmentalJustice@DOL.GOV.

SUPPLEMENTARY INFORMATION: During the call, feedback will be solicited by officials across the Department. The Department is conducting this session to seek a diversity of viewpoints and insights from interested stakeholders to inform its future actions. But the Department is not seeking consensus recommendations.

The White House issued Executive Order 14008, Tackling the Climate Crisis at Home and Abroad, resulting in part, in the Council on Environmental Quality and a White House advisory committee focused on serving environmental justice communities. The policy of the Administration is to secure economic justice and spur economic opportunities for disadvantaged communities that have been historically marginalized and overburdened, including places that have suffered as a result of economic shifts and places that have suffered the most from persistent pollution, including low-income rural and urban communities, communities of color, and Native communities. At the Department we refer to the individuals in such communities as disadvantaged workers.

The Department provides a range of services that seeks to assist and improve the overall job quality for disadvantaged workers, through job search, training, income maintenance, worker empowerment, safety and health protections, and other worker protections. The Department is interested in learning about potential approaches and gathering feedback to improving services for the economically disadvantaged. In this session, the Department will seek public input on what are the greatest needs and/or barriers facing disadvantaged and/or environmentally-impacted communities as it relates to employment, worker protections, and worker rights.

Authority: E.O. 14008, E.O. 12898, 59 FR 7629, 3 CFR, 1994 Comp. p. 859.

Rajesh D. Nayak,
Assistant Secretary for Policy.

[FR Doc. 2022-25893 Filed 11-25-22; 8:45 am]

BILLING CODE 4510-HX-P